DEPARTMENT OF HEALTH AND HUMAN SERVICES

Centers for Disease Control and Prevention

Healthcare Infection Control Practices Advisory Committee (HICPAC)

In accordance with section 10(a) (2) of the Federal Advisory Committee Act (Pub. L. 92-463), the Centers for Disease Control and Prevention (CDC), National Center for Emerging and Zoonotic Infectious Diseases (NCEZID) announces a meeting of the aforementioned committee:

Times and Dates:

9:00 a.m.-5:00 p.m., EST, December 1, 2016

9:00 a.m.-12:00 p.m., EST, December 2, 2016

Place: Centers for Disease Control and Prevention, Global Communications Center, Building 19, Auditorium B, 1600 Clifton Road NE., Atlanta, Georgia, 30329; Call-in number: 866-707-0452; Passcode: 78829617.

Status: Open to the public, in-person capacity is limited by the space available and 100 lines on the call-in number. Time will be available for public comment. The public is welcome to submit written comments in advance of the meeting. Comments should be submitted in writing by email to the contact person listed below. The deadline for receipt of written public comments is November 18, 2016. All requests must contain the name, address, and organizational affiliation of the speaker, as well as the topic being addressed. Written comments should not exceed one single-spaced typed page in length and delivered in 3 minutes or less. Please note that the public comment period may end before the time indicated, following the last call for comments. Members of the public who wish to provide public comments should plan to attend the public comment session in-person at the start time listed. Written comments received in advance of the meeting will be included in the official record of the meeting.

Purpose: The Committee is charged with providing advice and guidance to the Director, Division of Healthcare Quality Promotion, the Director, National Center for Emerging and Zoonotic Infectious Diseases (NCEZID), the Director, CDC, the Secretary, Health and Human Services regarding (1) the practice of healthcare infection prevention and control; (2) strategies for surveillance, prevention, and control of infections, antimicrobial resistance, and related events in settings where healthcare is provided; and (3) periodic updating of CDC guidelines and other policy statements regarding prevention of healthcare-associated infections and healthcare-related conditions.

Matters for Discussion: The agenda will include updates on CDC's activities for prevention of healthcare associated infections (HAIs), updates on antimicrobial stewardship, an update on infection prevention in long term care facilities, an update on Draft Infection Control Guidelines, and an update from the workgroup for considerations on endoscope reprocessing.

Agenda items are subject to change as priorities dictate.

Contact person for More Information: Erin Stone, M.S., HICPAC, Division of Healthcare Quality Promotion, NCEZID, CDC, 1600 Clifton Road NE., Mailstop A-07, Atlanta, Georgia 30329. Telephone (404) 639-4045. Email: hicpac@cdc.gov.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2016-26570 Filed 11-2-16; 8:45 am]

BILLING CODE 4163-18-P